DEPARTMENT OF COMMERCE

National Oceanic and Atmospheric Administration

Proposed Information Collection; Comment Request; Southeast Region Gulf of Mexico Electronic Logbook Program

AGENCY: National Oceanic and Atmospheric Administration (NOAA), Commerce.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before June 18, 2012.

ADDRESSES: Direct all written comments to Jennifer Jessup, Departmental Paperwork Clearance Officer, Department of Commerce, Room 6616, 14th and Constitution Avenue NW., Washington, DC 20230 (or via the Internet at JJessup@doc.gov).

FOR FURTHER INFORMATION CONTACT: Requests for additional information or copies of the information collection instrument and instructions should be directed to Anik Clemens, (727) 551-5611 or Anik.Clemens@noaa.gov.

SUPPLEMENTARY INFORMATION:

I. Abstract

This request is for extension of a current information collection.

The Magnuson-Stevens Fishery Conservation and Management Act (Magnuson-Stevens Act) authorizes the Gulf of Mexico Fishery Management Council (Council) to prepare and amend fishery management plans for any fishery in waters under its jurisdiction. National Marine Fisheries Service (NMFS) manages the shrimp fishery in the waters of the Gulf of Mexico (Gulf) under the Shrimp Fishery Management Plan (FMP). The electronic logbook (ELB) regulations for the Gulf shrimp fishery may be found at 50 CFR § 622.5(a)(iii).

There are currently approximately 1,563 permitted vessels that harvest shrimp from the Exclusive Economic Zone (EEZ), and the Council estimates that there are over 13,000 boats that fish in state waters. With such a large number of vessels of differing sizes, gears used, and fishing capabilities compounded by seasonal variability in abundance and price and the broad geographic distribution of the fleet, ELBs provide a more precise means of estimating the amount of fishing effort than current methods. Using ELBs to improve estimating fishing effort will help improve estimating bycatch in the Gulf shrimp fleet.

II. Method of Collection

The electronic logbook autonomously collects effort data and is downloaded by contract personnel every 2-3 months. The electronic logbook memory chip will be removed from the unit and downloaded at the contractor site in College Station, Texas. A new logbook memory chip will replace the removed memory chip, a process taking less than one minute.

III. Data

OMB Control Number: 0648-0543.

Form Number: None.

Type of Review: Regular submission (extension of a current information collection).

Affected Public: Business or other for-profit organizations.

Estimated Number of Respondents: 600.

Estimated Time per Response: ELB removal/reinstallation 1 minute.

Estimated Total Annual Burden Hours: 60.

Estimated Total Annual Cost to Public: $0 in recordkeeping/reporting costs.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: April 11, 2012.
Gwellnar Banks,
Management Analyst, Office of the Chief Information Officer.

[FR Doc. 2012-9096 Filed 4-16-12; 8:45 am]

BILLING CODE 3510-22-P